DEPARTMENT OF COMMERCE

Foreign-Trade Zones Board

[B-37-2020]

Foreign-Trade Zone (FTZ) 75—Phoenix, Arizona; Authorization of Limited Production Activity; Lucid Motors USA, Inc. (Electric Automobiles and Subassemblies); Casa Grande and Tempe, Arizona

On June 2, 2020, Lucid Motors USA, Inc., submitted a notification of proposed production activity to the FTZ Board for its facilities in Casa Grande and Tempe, Arizona.

The notification was processed in accordance with the regulations of the FTZ Board (15 CFR part 400), including notice in the Federal Register inviting public comment (85 FR 36375, June 16, 2020). On September 30, 2020, the applicant was notified of the FTZ Board's decision that further review of part of the proposed activity is warranted. The FTZ Board authorized the production activity described in the notification on a limited basis, subject to the FTZ Act and the Board's regulations, including Section 400.14, and further subject to a restriction requiring the following foreign-status components be admitted to the zone in privileged foreign status (19 CFR 146.41): Finished lithium-ion batteries; finished lithium-ion battery packs for electrically powered vehicles; lithium-ion battery cells; lumbar seat bolsters, motor vehicle seat upholstery; carpets; seat belts; seat belt webbing; trunk liners; cargo restraint nets; safety airbags; and, motor vehicle seats.

Dated: September 30, 2020.
Andrew McGilvray,
Executive Secretary.

[FR Doc. 2020-22047 Filed 10-5-20; 8:45 am]

BILLING CODE 3510-DS-P